DEPARTMENT OF TRANSPORTATION

Federal Aviation Administration

14 CFR Part 39

[Docket No. FAA-2004-19681; Directorate Identifier 2003-NM-184-AD]

RIN 2120-AA64

Airworthiness Directives; BAE Systems (Operations) Limited Model BAe 146 Series Airplanes

AGENCY: Federal Aviation Administration (FAA), DOT.

ACTION: Notice of proposed rulemaking (NPRM).

SUMMARY: The FAA proposes to adopt a new airworthiness directive (AD) for all BAE Systems (Operations) Limited Model BAe 146 series airplanes. This proposed AD would require repetitive detailed inspections for cracking of the elevator “G” weight support structure, and repairs if necessary. This proposed AD also provides for an optional terminating action. This proposed AD is prompted by reported cracking of the elevator “G” weight support structure. We are proposing this AD to prevent failure of the elevator “G” weight support structure with possible consequent jamming of the right-hand elevator servo tab and reduced controllability of the airplane.

DATES: We must receive comments on this proposed AD by December 27, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

You can get the service information identified in this proposed AD from British Aerospace Regional Aircraft American Support, 13850 Mclearen Road, Herndon, Virginia 20171.

You may examine the contents of this AD docket on the Internet at http://dms.dot.gov, or at the Docket Management Facility, U.S. Department of Transportation, 400 Seventh Street SW., Room PL-401, on the plaza level of the Nassif Building, Washington, DC.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19681; Directorate Identifier 2003-NM-184-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority (CAA), which is the airworthiness authority for the United Kingdom, notified us that an unsafe condition may exist on certain BAE Systems (Operations) Limited Model BAe 146 series airplanes. The CAA advises that operators have reported cracking of the elevator “G” weight support structure. This cracking could result from increased loading following nose wheel shimmy, overweight, hard or high drag/side load landing, flight in severe turbulence, or pitch oscillation. Cracking of the elevator “G” weight support structure, if not corrected, could result in failure of the elevator “G” weight support structure with possible consequent jamming of the right-hand elevator servo tab and reduced controllability of the airplane.

Relevant Service Information

BAE Systems (Operations) Limited has issued Inspection Service Bulletin ISB.27-037, Revision 3, dated April 17, 2003. The ISB describes procedures for repetitive detailed inspections of the elevator “G” weight support structure for cracking, and applicable repairs. The CAA mandated the service information and issued British airworthiness directive 006-04-2003 to ensure the continued airworthiness of these airplanes in the United Kingdom.

BAE Systems (Operations) Limited has also issued Modification Service Bulletin SB.27-037-00654A, Revision 2, dated May 8, 2003, which eliminates the need for the inspections described in ISB.27-037, Revision 3. The terminating action introduces a new elevator “G” weight support structure with machined castings, which replaces the existing elevator “G” weight support structure with light alloy pressings.

FAA's Determination and Requirements of the Proposed AD

This airplane model is manufactured in the United Kingdom and is type certificated for operation in the United States under the provisions of § 21.29 of the Federal Aviation Regulations (14 CFR 21.29) and the applicable bilateral airworthiness agreement. Pursuant to this bilateral airworthiness agreement, the CAA has kept the FAA informed of the situation described above. We have examined the CAA's findings, evaluated all pertinent information, and determined that AD action is necessary for products of this type design that are certificated for operation in the United States.

Therefore, we are proposing this AD, which would require repetitive detailed inspections of the elevator “G” weight support structure for cracking, and applicable repairs. The proposed AD would require you to use the service information described previously to perform these actions, except as discussed under “Differences Between Proposed AD and Referenced Service Bulletins.”

This proposed AD also would provide for an optional terminating action for the repetitive inspections.

Consistent with the findings of the CAA, the proposed AD would allow repetitive inspections to continue in lieu of the terminating action. In making this determination, we considered that long-term continued operational safety in this case will be adequately ensured by repetitive inspections to detect cracking before it represents a hazard to the airplane.

Differences Between Proposed AD and British Airworthiness Directive

British airworthiness directive 006-04-2003 applies to “Model BAe 146 pre Modification HCM00654A.” However, we have determined that a more detailed action is required to ensure that the unsafe condition has been corrected on all Model BAe 146 airplanes. Therefore, this proposed AD applies to all Model BAe 146 series airplanes and specifies a one-time general visual inspection to determine whether Modification HCM00654A has been done. We have coordinated this difference with the CAA.

Differences Between Proposed AD and Referenced Service Bulletins

Although the referenced service bulletins describe procedures for reporting inspection results to the manufacturer, this proposed AD would not require that action. We do not need this information from operators.

Unlike the procedures described in Service Bulletin ISB.27-037, Revision 3, this proposed AD would not permit further flight if cracks are detected in the elevator “G” weight support structure. We have determined that, because of the safety implications and consequences associated with such cracking, any cracked elevator “G” weight support structure must be repaired or modified before further flight.

The service bulletins specify that you may contact the manufacturer for instructions on how to repair certain conditions, but this proposed AD would require you to repair those conditions using a method that we or the CAA (or its delegated agent) approves. In light of the type of repair that would be required to address the unsafe condition, and consistent with existing bilateral airworthiness agreements, we have determined that, for this proposed AD, a repair approved by the CAA or us would be acceptable for compliance with this proposed AD.

Costs of Compliance

This proposed AD would affect about 19 airplanes of U.S. registry. The proposed actions would take about 1 work hour per airplane, at an average labor rate of $65 per work hour. Based on these figures, the estimated cost of the proposed AD for U.S. operators is $1,235, or $65 per airplane per inspection cycle.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited (Formerly British Aerospace Regional Aircraft): Docket No. FAA-2004-19681; Directorate Identifier 2003-NM-184-AD.

Comments Due Date

(a) The Federal Aviation Administration must receive comments on this AD action by December 27, 2004.

Affected ADs

(b) None.

Applicability

(c) This AD applies to all BAE Systems (Operations) Limited Model BAe 146 series airplanes, certificated in any category.

Unsafe Condition

(d) This AD was prompted by reported cracking of the elevator “G” weight support structure. We are issuing this AD to prevent failure of the elevator “G” weight support structure with possible consequent jamming of the right-hand elevator servo tab and reduced controllability of the airplane.

Compliance

(e) You are responsible for having the actions required by this AD performed within the compliance times specified, unless the actions have already been done.

Verification of Applicability

(f) Before the accumulation of 14,000 total landings, or within 4,000 landings after the effective date of this AD, whichever is later: Perform a one-time general visual inspection of the elevator “G” weight support structure to determine whether BAE Systems (Operations) Limited Modification HCM00654A as described in BAE Systems (Operations) Limited Modification Service Bulletin SB.27-037-00654A, Revision 2, dated May 8, 2003, has been incorporated on the airplane. If it can be conclusively determined that HCM00654A has been incorporated, no further action is required by this AD.

Note 1: For the purposes of this AD, a general visual inspection is “a visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Inspection

(g) For airplanes on which BAE Systems (Operations) Limited Modification HCM00654A has not been done and airplanes on which it cannot be conclusively determined that this modification has been done: Before the accumulation of 14,000 total landings, or within 4,000 landings after the effective date of this AD, whichever is later, except as provided by paragraph (h) of this AD, perform a detailed inspection for cracking of the elevator “G” weight support structure, in accordance with the Accomplishment Instructions of BAE Systems (Operations) Limited Inspection Service Bulletin ISB.27-037, Revision 3, dated April 17, 2003.

(1) If no crack is found and the structure has not been repaired previously, repeat the inspection at intervals not to exceed 4,000 landings.

(2) If no crack is found but the structure has been repaired previously, repeat the inspection at applicable intervals specified in appendix 1 of the service bulletin.

Note 2: For the purposes of this AD, a detailed inspection is “an intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Post-Incident Inspection

(h) If, before or after any inspection required by this AD, the airplane experiences any incident of nose wheel shimmy, overweight, hard or high drag/side load landing, flight in severe turbulence, or pitch oscillation; before further flight, repeat the inspection required by paragraph (g) of this AD. If no crack is found, repeat the inspection required by paragraph (g)(1) or (g)(2) of this AD, as applicable.

Corrective Actions

(i) If any crack is found during any inspection required by paragraph (g) or (h) of this AD, before further flight, replace the elevator “G” weight support structure in accordance with paragraph (j) of this AD, or repair the structure in accordance with a method approved by the Manager, International Branch, ANM-116, FAA, Transport Airplane Directorate, or the Civil Aviation Authority (CAA) (or its delegated representative).

Optional Terminating Action

(j) Replacement of the existing elevator “G” weight support structure with a new, improved elevator “G” weight support structure in accordance with BAE Systems (Operations) Limited Modification Service Bulletin SB.27-037-00654A, Revision 2, dated May 8, 2003, terminates the repetitive inspections required by paragraph (g) of this AD.

No Reporting Requirement

(k) Although the service bulletins referenced in this AD specify to submit certain information to the manufacturer, this AD does not include that requirement.

Alternative Methods of Compliance

(l) In accordance with 14 CFR 39.19, the Manager, International Branch, ANM-116, is authorized to approve alternative methods of compliance for this AD.

Related Information

(m) British airworthiness directive 006-04-2003 also addresses the subject of this AD.

Issued in Renton, Washington, on November 10, 2004.
Ali Bahrami,
Manager, Transport Airplane Directorate, Aircraft Certification Service.

[FR Doc. 04-26032 Filed 11-23-04; 8:45 am]

BILLING CODE 4910-13-P